DEPARTMENT OF HEALTH AND HUMAN SERVICES

National Institutes of Health

National Cancer Institute; Amended Notice of Meeting

Notice is hereby given of a change in the meeting of the National Cancer Institute Special Emphasis Panel, March 16, 2009, 8 a.m. to March 17, 2009, 6 pm, Hilton Washington DC North/Gaithersburg, 620 Perry Parkway, Gaithersburg, MD, 20877 which was published in the Federal Register on December 17, 2008, 73 FR76669.

This notice is amended to change the date from March 16-17, 2009 to March 10-11, 2009, 6 pm. The meeting is closed to the public.

Dated: February 9, 2009.
Jennifer Spaeth,
Director, Office of Federal Advisory Committee Policy.

[FR Doc. E9-3200 Filed 2-13-09; 8:45 am]

BILLING CODE 4140-01-P